DEPARTMENT OF THE INTERIOR

Geological Survey

Federal Geographic Data Committee (FGDC); Application Notice Announcing the Opening Date for Transmittal of Applications for Funding Assistance Under the FGDC National Spatial Data Infrastructure (NSDI) Cooperative Agreements Program (CAP) for Fiscal Year (FY) 2002

AGENCY: U.S. Geological Survey, Interior.

ACTION: Notice inviting applications for NSDI Cooperative Agreements Program awards for fiscal year 2002, with performance to begin in August 2002 through September 1, 2003.

SUMMARY: The purpose of the NSDI Cooperative Agreements Program is to facilitate and foster partnerships, alliances and technology within and among various public and private entities to assist in building the NSDI. The NSDI consists of technologies, policies, organizations and people necessary to promote cost-effective production, ready availability, and greater utilization of high quality geospatial data among a variety of sectors, disciplines and communities.

The FY 2002 NSDI Cooperative Agreements Program will fund projects in four categories of activities: (1) Metadata implementation assistance, (2) metadata trainer assistance (3) clearinghouse integration with OpenGIS services, and (4) US and Canadian Spatial Data Infrastructure development. Applications may be submitted by Federal agencies, State and local government agencies, educational institutions, private firms, non-profit foundations, and Federally acknowledged or state-recognized Native American tribes or groups. Applications from Federal agencies will not be competed against applications from other sources. Authority for this program is contained in the Organic Act of March 3, 1879, 43 U.S.C. 31 and Executive Order 12906.

DATES: The program announcements and application forms for the FY 2002 NSDI Cooperative Agreements Program are expected to be available on or about December 15, 2001. Applications must be received on or before March 15, 2002.

ADDRESSES: Copies of each Program Announcement #02HQPA0005 for the NSDI Cooperative Agreements Program will be available through the Internet at www.usgs.gov/contracts/index.html and www.fgdc.gov. Copies of Program Announcement #02HQPA0005 may also be obtained by writing to Patricia Masters, U.S. Geological Survey, Office of Acquisition and Grants, National Assistance Programs Branch, MS 205G, 12201 Sunrise Valley Drive, Reston, VA 20192, or e-mailing pmasters@usgs.gov. Requests must be in writing; verbal requests will not be honored.

FOR FURTHER INFORMATION CONTACT: For NSDI technical information contact: David Painter, U.S. Geological Survey, Federal Geographic Data Committee, Mail Stop 590, 12201 Sunrise Valley Drive, Reston, Virginia 20192; (703) 648-5513, fax (703) 648-5755, e-mail dpainter@fgdc.gov.

For the NSDI Cooperative Agreements Program contact: Ms. Patricia Masterson, U.S. Geological Survey, Office of Acquisition and Grants, National Programs Assistance Branch, Mail Stop 205G, 12201 Sunrise Valley Drive, Reston, Virginia 20192; (703) 648-7356, fax (703) 648-7359, e-mail pmasters@usgs.gov.

SUPPLEMENTARY INFORMATION: Under the NSDI Cooperative Agreements Program a total of $385,000 is available for award.

2002 NSDI Cooperative Agreement Program Categories

Category 1: “Don't Duck Metadata:” Metadata Implementation and Creation Assistance. The objectives for this category are the documentation of geospatial data through metadata creation and serving that documentation on the Internet through a NSDI clearinghouse. Under this category funds are provided for organizations needing assistance in receiving metadata training and in metadata creation.

Category 2: “Don't Duck Metadata:” Metadata Trainer Assistance. Funding in this category is for those organizations and individuals that can provide training assistance to other organizations in becoming skilled and knowledgeable in metadata creation.

Category 3: Clearinghouse Integration with OpenGIS services will provide funding to extend existing Clearinghouse Nodes with OpenGIS Consortium (OGC) compliant web mapping service capabilities and related standards-based services in a consistent way.

Category 4: Canadian/U.S. Spatial Data Infrastructure Project will provide funding assistance to support a collaborative project between organizations in the U.S. and Canada to coordinate, create, maintain, and share geospatial data to support decision-making over a common geography. The FGDC in partnership with the GeoConnections of Natural Resources Canada will fund lead organizations in their respective countries in a collaborative cross-border project.

Dated: January 14, 2002.
Carol F. Aten,
Chief, Administrative Policy and Services, U.S. Geological Survey.

[FR Doc. 02-1600 Filed 1-22-02; 8:45 am]

BILLING CODE 4310-07-M